DEPARTMENT OF TRANSPORTATION

Federal Aviation Administration

14 CFR Part 71

[Docket No. FAA-2011-0024; Airspace Docket No. 11-ASW-1]

RIN 2120-AA66

Amendment to VOR Federal Airway V-358; TX

AGENCY: Federal Aviation Administration (FAA), DOT.

ACTION: Final rule; technical amendment.

SUMMARY: This action amends a final rule published by the FAA in the Federal Register, that inadvertently extended VOR Federal airway V-358 to the wrong end point. This action reflects the correct end point and coincides with the FAA's aeronautical database.

DATES: Effective date 0901 UTC, May 5, 2011. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue, SW., Washington, DC 20591; telephone: (202) 267-8783.

SUPPLEMENTARY INFORMATION:

Background

On October 16, 2000, the FAA published a final rule in the Federal Register amending thirteen Federal airways in the vicinity of Dallas/Fort Worth, TX (65 FR 61087). That action simplified the airway structure and enhanced the management of aircraft operations in the area. VOR Federal airway V-358 was one of the thirteen airways included in the rule, changing its end point from Will Rogers, OK to Waco, TX.

On October 2, 2001, the FAA published a final rule in the Federal Register realigning a portion of V-358 to prevent instrument flight rules (IFR) aircraft navigating on the airway from encroaching on the newly established Prohibited Area 49 (P-49), Crawford, TX (66 FR 50101). The realignment around P-49 was necessary to assist the United States Secret Service in providing security for the President of the United States and preventing IFR aircraft from flying through P-49. However, the airway description contained in the rule inadvertently extended the V-358 end point from Waco, TX, back to Will Rogers, OK.

On October 26, 2009, the FAA published a third final rule in the Federal Register amending the V-358 airway description (74 FR 54896). That rule renamed the Lampasas, TX, VHF omnidirectional range/tactical air navigation (VORTAC) to Gooch Springs, TX, VORTAC. This was done to avoid confusion since the Lampasas VORTAC and Lampasas Airport both shared the same name and location identifier, but were not co-located. Again, the airway end point error was over looked and V-358 was published with an end point as Will Rogers, OK, instead of Waco, TX.

The Rule

This action amends Title 14 Code of Federal Regulations (14 CFR) part 71 by correcting the end point in the legal description of V-358 from Will Rogers, OK, to Waco, TX. The rule reflects the end point coinciding with the FAA's aeronautical database.

Since this is an administrative change, and does not affect the dimensions, altitude, or operating requirements of that airspace, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Domestic VOR Federal airways are published in paragraph 6010(a) of FAA Order 7400.9U, dated August 18, 2010, and effective September 15, 2010, which is incorporated by reference in 14 CFR 71.1. The domestic Federal VOR airway listed in this document will be published subsequently in the Order.

Environmental Review

There are no changes to the lateral limits. Therefore, the FAA has determined that this action is not subject to environmental assessments and procedures in accordance with FAA Order 1050.1E, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 6010(a) Domestic VOR federal airways.

* * * * *

V-358 [Amended]

From San Antonio, TX, via Stonewall, TX; Gooch Springs, TX; INT Gooch Springs 041° and Waco, TX, 280° radials; to Waco.

* * * * *

Issued in Washington, DC, on March 2, 2011.
Edith V. Parish,
Manager, Airspace, Regulations and ATC Procedures Group.

[FR Doc. 2011-5057 Filed 3-9-11; 8:45 am]

BILLING CODE 4910-13-P